DEPARTMENT OF HEALTH AND HUMAN SERVICES

National Institutes of Health

Eunice Kennedy Shriver National Institute of Child Health and Human Development Amended; Notice of Meeting

Notice is hereby given of a change in the meeting of the Board of Scientific Counselors, NICHD, December 5, 2014, 08:00 a.m. to December 5, 2014, 04:00 p.m., National Institutes of Health, Building 31A, Conference Room 2A48, 31 Center Drive, Bethesda, MD 20892 which was published in the Federal Register on October 30, 2014, 79 FR 210, page 64608.

The meeting notice is amended to add an open session and agenda from December 5, 2014, 08:00 a.m. to December 5, 2014, 12:30 p.m. as follows below. The closed session commences immediately afterward.

Name of Committee: Board of Scientific Counselors, NICHD.

Date: December 5, 2014.

Open: 8:00 a.m. to 12:30 p.m.

Agenda: A report by the Scientific Director, NICHD, on the status of the NICHD Division of Intramural Research, and seminars by various intramural scientists.

Place: National Institutes of Health, Building 31A, Conference Room 2A48, 31 Center Drive, Bethesda, MD 20892.

Closed: 12:30 p.m. to 4:00 p.m.

Agenda: To review and evaluate personal qualifications and performance, and competence of individual investigators.

Place: National Institutes of Health, Building 31A, Conference Room 2A48, 31 Center Drive, Bethesda, MD 20892.

Dated: November 13, 2014.
Michelle Trout,
Program Analyst, Office of Federal Advisory Committee Policy.

[FR Doc. 2014-27347 Filed 11-18-14; 8:45 am]

BILLING CODE 4140-01-P